DEPARTMENT OF HOMELAND SECURITY

Federal Emergency Management Agency

[Docket ID FEMA-2014-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of May 19, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov. The flood hazard determinations are made final in the watersheds and/or communities listed in the table below.

I. Non-Watershed-Based Studies

Community | Community map repository address
LaSalle County, Illinois, and Incorporated Areas
Docket No.: FEMA-B-1292
City of Mendota | City Hall, 800 Washington Street, Mendota, IL 61342.
Unincorporated Areas of LaSalle County | LaSalle County Courthouse, Environmental Services and Land Use Department, 119 West Madison Street, Ottawa, IL 61350.
Orange County, Indiana, and Incorporated Areas
Docket No.: FEMA-B-1292
Town of French Lick | Town Hall, 7959 West Hunters Run Drive, French Lick, IN 47432.
Town of Paoli | Town Hall, 110 North Gospel Street, Paoli, IN 47454.
Town of West Baden Springs | Town Hall, 8361 West State Road 56, West Baden Springs, IN 47469.
Unincorporated Areas of Orange County | Orange County Emergency Management, Orange County Courthouse, 205 East Main Street, Paoli, IN 47454.
Poweshiek County, Iowa, and Incorporated Areas
Docket No.: FEMA-B-1299 and FEMA-B-1311
City of Deep River | City Hall, 701 Main Street, Deep River, IA 52222.
City of Grinnell | City Hall, 927 Fourth Avenue, Grinnell, IA 50112.
City of Guernsey | City Hall, 601 Cleveland Street, Guernsey, IA 52221.
City of Malcom | City Hall, 305 Third Street, Malcom, IA 50157.
City of Montezuma | City Hall, 501 East Main, Montezuma, IA 50151.
City of Searsboro | City Hall, 526 Main Street, Searsboro, IA 50242.
City of Victor | City Hall, 707 Second Street, Victor, IA 52347.
Unincorporated Areas of Poweshiek County | Poweshiek County Courthouse, 302 East Main Street, Montezuma, IA 50171.
Nobles County, Minnesota, and Incorporated Areas
Docket No.: FEMA-B-1299
City of Adrian | City Hall, 209 Maine Avenue, Suite 106, Adrian, MN 56110.
City of Ellsworth | City Hall, 322 South Broadway Street, Ellsworth, MN 56129.
City of Worthington | City Hall, 303 9th Street, Worthington, MN 56187.
Unincorporated Areas of Nobles County | Nobles County Government Center, 315 10th Street, Worthington, MN 56187.
Douglas County, Nebraska, and Incorporated Areas
Docket No.: FEMA-B-1299
City of Omaha | Omaha-Douglas Civic Center, 1819 Famam Street, Omaha, NE 68183.
City of Valley | City Hall, 203 North Spruce Street, Valley, NE 68064.
City of Grinnell | City Hall, 927 Fourth Avenue, Grinnell, IA 50112.
Unincorporated Areas of Douglas County | Douglas County Environmental Services, 3015 Menke Circle, Omaha, NE 68134.
Village of Waterloo | Village Hall, 509 South Front Street, Waterloo, NE 68069.

II. Watershed-Based Studies

Community | Community map repository address
Upper Ohio-Shade Watershed
Meigs County, Ohio, and Incorporated Areas
Docket No.: FEMA-B-1299
Unincorporated Areas of Meigs County | Meigs County Tax Map Office, 112 Mulberry Avenue, Pomeroy, OH 45769.
Village of Middleport | Village Hall, 659 Pearl Street, Middleport, OH 45760.
Village of Pomeroy | Village Hall, 660 East Main Street, Suite A, Pomeroy, OH 45769.
Village of Racine | Village Hall, 405 Main Street, Racine, OH 45771.
Village of Rutland | Village Hall, 337 Main Street, Rutland, OH 45775.
Village of Syracuse | Village Hall, 2581 3rd Street, Syracuse, OH 45779.
Upper Rock Watershed
Dodge County, Wisconsin, and Incorporated Areas
Docket No.: FEMA-B-1303
City of Beaver Dam | City Hall, 205 South Lincoln Avenue, Beaver Dam, WI 53916.
City of Columbus | City Hall, 105 North Dickason Boulevard, Columbus, WI 53925.
City of Hartford | City Hall, 109 North Main Street, Hartford, WI 53027.
City of Horicon | City Hall, 404 East Lake Street, Horicon, WI 53032.
City of Mayville | City Hall, 15 South School Street, Mayville, WI 53050.
City of Watertown | City Hall, 106 Jones Street, Watertown, WI 53094.
City of Waupun | City Hall, 201 East Main Street, Waupun, WI 53963.
Unincorporated Areas of Dodge County | Administrative Building, 127 East Oak Street, Juneau, WI 53039.
Village of Hustisford | Village Hall, 201 South Lake Street, Hustisford, WI 53034.
Village of Kekoskee | Village Hall, 21 Valley Street, Mayville, WI 53050.
Village of Lowell | Village Hall, 105 North River Street, Lowell, WI 53557.
Village of Neosho | Village Hall, 210 South Schuyler Street, Neosho, WI 53059.
Village of Reeseville | Village Hall, 206 South Main Street, Reeseville, WI 53579.
Village of Theresa | Village Hall, 202 South Milwaukee Street, Theresa, WI 53091.

(Catalog of Federal Domestic Assistance No. 97.022, “Flood Insurance.”)

Date: January 31, 2014.
Roy E. Wright,
Deputy Associate Administrator for Mitigation, Department of Homeland Security, Federal Emergency Management Agency.

[FR Doc. 2014-06101 Filed 3-19-14; 8:45 am]

BILLING CODE 9110-12-P